DEPARTMENT OF ENERGY

Federal Energy Regulatory Commission

Combined Notice of Filings #1

October 23, 2007.

Take notice that the Commission received the following electric corporate filings:

Docket Numbers: EC08-8-000.

Applicants: Consolidated Water Power Company; NewPage Energy Services, LLC; Stora Enso Oyj, Stora Enso North America, Inc.; Stora Enso North America Corp.; NewPage Group, Inc; NewPage Holding Corporation; NewPage Corporation.

Description: The NewPage Companies submits a joint application for authorization under Section 203 of the Federal Power Act.

Filed Date: 10/17/2007.

Accession Number: 20071018-0196.

Comment Date: 5 p.m. Eastern Time on Wednesday, November 7, 2007.

Take notice that the Commission received the following exempt wholesale generator filings:

Docket Numbers: EG08-9-000.

Applicants: Wharton County Generation, LLC.

Description: Wharton County Notice of Self-Certification of EWG Status.

Filed Date: 10/19/2007.

Accession Number: 20071019-5096.

Comment Date: 5 p.m. Eastern Time on Friday, November 9, 2007.

Take notice that the Commission received the following electric rate filings:

Docket Numbers: ER97-420-015.

Applicants: ProLiance Energy, LLC.

Description: ProLiance Energy, LLC submits a change in status notification.

Filed Date: 10/16/2007.

Accession Number: 20071018-0081.

Comment Date: 5 p.m. Eastern Time on Tuesday, November 6, 2007.

Docket Numbers: ER04-157-024; ER04-714-014.

Applicants: Bangor Hydro-Electric Company; Florida Power & Light Company New England.

Description: Fitchburg Gas & Electric Light Company Revised Refund Report Pursuant to FERC Order Dated July 26, 2007.

Filed Date: 10/18/2007.

Accession Number: 20071018-5057.

Comment Date: 5 p.m. Eastern Time on Thursday, November 8, 2007.

Docket Numbers: ER07-1022-002.

Applicants: Duke Energy Carolinas, LLC.

Description: Duke Energy Carolinas, LLC. submits Substitute Original Sheet 4 to FERC Electric Tariff, Fifth Revised Volume 3 et al. to be effective 9/18/07.

Filed Date: 10/17/2007.

Accession Number: 20071018-0080.

Comment Date: 5 p.m. Eastern Time on Wednesday, November 7, 2007.

Docket Numbers: ER07-1201-001.

Applicants: Southwest Power Pool, Inc.

Description: Southwest Power Pool Inc submits Exhibit I a partially executed Network Integration Transmission Service Agreement with Transmission Provider and American Electric Power Service Corporation.

Filed Date: 10/18/2007.

Accession Number: 20071019-0036.

Comment Date: 5 p.m. Eastern Time on Thursday, November 8, 2007.

Docket Numbers: ER07-1205-001.

Applicants: PJM Interconnection, LLC.

Description: PJM Interconnection, LLC responds to FERC's 9/21/07 deficiency letter re their 7/26/07 filing of an executed interconnection service agreement with WM Renewable Energy, LLC.

Filed Date: 10/22/2007.

Accession Number: 20071023-0034.

Comment Date: 5 p.m. Eastern Time on Tuesday, November 13, 2007.

Docket Numbers: ER07-1247-002.

Applicants: FC Energy Services Company, LLC.

Description: FC Energy Services Company, LLC submits an amendment to its proposed market based rate tariff, entitled FERC Electric Tariff 1.

Filed Date: 10/19/2007.

Accession Number: 20071022-0087.

Comment Date: 5 p.m. Eastern Time on Friday, November 9, 2007.

Docket Numbers: ER07-1258-002.

Applicants: Rocky Mountain Power, LLC.

Description: Rocky Mountain Power, LLC submits Substitute Original Sheet 1 and Second Substitute Original Sheet 2 to its revised tariff to delete the following provisions prohibition on affiliate sales, etc.

Filed Date: 10/22/2007.

Accession Number: 20071023-0033.

Comment Date: 5 p.m. Eastern Time on Tuesday, November 13, 2007.

Docket Numbers: ER07-1259-002.

Applicants: San Joaquin Cogen, LLC.

Description: San Joaquin Cogen, LLC submits its Second Substitute Original Sheet 1-3 to its FERC Electric Tariff, First Revised Volume 1, etc.

Filed Date: 10/22/2007.

Accession Number: 20071023-0031.

Comment Date: 5 p.m. Eastern Time on Tuesday, November 13, 2007.

Docket Numbers: ER07-1268-001.

Applicants: PacifiCorp.

Description: PacifiCorp submits Exhibits A and B two supplements to the 10/1/98 Facilities Agreement with Southern Utah Power Systems, et al.

Filed Date: 10/18/2007.

Accession Number: 20071022-0089.

Comment Date: 5 p.m. Eastern Time on Thursday, November 8, 2007.

Docket Numbers: ER07-1309-001.

Applicants: Dynegy Oakland, LLC.

Description: Dynegy Oakland, LLC. submits revised tariff sheets to its Reliability Must-Run Agreement with the California ISO.

Filed Date: 10/17/2007.

Accession Number: 20071019-0039.

Comment Date: 5 p.m. Eastern Time on Wednesday, November 7, 2007.

Docket Numbers: ER07-1317-001.

Applicants: Citizens Electric Company of Lewisburg, PA.

Description: Citizens' Electric Co. of Lewisburg, PA submits a Supplement to the Petition for Acceptance of Initial Tariff, Waivers and Blanket Authority.

Filed Date: 10/17/2007.

Accession Number: 20071018-0079.

Comment Date: 5 p.m. Eastern Time on Wednesday, November 7, 2007.

Docket Numbers: ER07-1331-002.

Applicants: Indianapolis Power & Light Company.

Description: Indianapolis Power & Light Company submits the corrected designation of First Revised Rate Schedule 21; Original Sheet 1 through 11.

Filed Date: 10/19/2007.

Accession Number: 20071023-0032.

Comment Date: 5 p.m. Eastern Time on Friday, November 9, 2007.

Docket Numbers: ER07-1341-002.

Applicants: York Generation Company, LLC.

Description: York Generation Company, LLC supplements the notice of succession filed on 9/4/07 & supplemented 10/1/07, etc.

Filed Date: 10/19/2007.

Accession Number: 20071022-0088.

Comment Date: 5 p.m. Eastern Time on Friday, November 9, 2007.

Docket Numbers: ER07-1382-001.

Applicants: Duke Energy Carolinas, LLC.

Description: Duke Energy Carolinas, LLC.submits an errata to its filing of a non-firm Transmission Service Agreement with Cargill Power Markets, LLC.

Filed Date: 10/17/2007.

Accession Number: 20071019-0038.

Comment Date: 5 p.m. Eastern Time on Wednesday, November 7, 2007.

Docket Numbers: ER08-1-001.

Applicants: Yuma Power Limited Liability Company.

Description: Yuma Power Limited Liability Co submits its proposed Rate Schedule No. 1, revised Original Sheet no. 2 on 10/3/07 and 10/16/07 its 10/1/07 and this filing.

Filed Date: 10/03/2007; 10/16/2007.

Accession Number: 20071003-0229; 20071018-0083.

Comment Date: 5 p.m. Eastern Time on Monday, October 29, 2007.

Docket Numbers: ER08-65-000.

Applicants: Westar Energy, Inc.

Description: Westar Energy, Inc. submits a Notice of Cancellation of a Generating Municipal Electric Service Agreement with the City of Girard, Kansas.

Filed Date: 10/17/2007.

Accession Number: 20071018-0082.

Comment Date: 5 p.m. Eastern Time on Wednesday, November 7, 2007.

Docket Numbers: ER08-67-000.

Applicants: Ameren Services Company.

Description: Ameren Services Co et al submit an executed service agreement fore Wholesale Distribution Service with the City of Farmington, Missouri.

Filed Date: 10/17/2007.

Accession Number: 20071019-0037.

Comment Date: 5 p.m. Eastern Time on Wednesday, November 7, 2007.

Docket Numbers: ER08-69-000.

Applicants: ISO New England, Inc.

Description: ISO New England, Inc., et al. jointly submits its revised tariff sheets & supporting testimony of Hung-po Chao, the Director of the ISO's Internal Market Monitoring Unit, reflecting proposed revisions to Market Rule 1.

Filed Date: 10/18/2007.

Accession Number: 20071022-0091.

Comment Date: 5 p.m. Eastern Time on Thursday, November 8, 2007.

Docket Numbers: ER08-70-000.

Applicants: FirstEnergy Service Company.

Description: FirstEnergy Services Company et al submits its Notice of Cancellation of Appendix 8 to Schedule E of the Central Area Power Coordinating Group Basic Operating Agreement.

Filed Date: 10/18/2007.

Accession Number: 20071022-0092.

Comment Date: 5 p.m. Eastern Time on Thursday, November 8, 2007.

Docket Numbers: ER08-71-000; ER08-72-000.

Applicants: Powerex Corporation and Northwestern Corporation

Description: Powerex Corp et al submits an executed Agreement for Regulating Reserve Services.

Filed Date: 10/18/2007.

Accession Number: 20071022-0093.

Comment Date: 5 p.m. Eastern Time on Thursday, November 8, 2007.

Docket Numbers: ER08-73-000.

Applicants: California Independent System Operator Corporation

Description: California ISO submits proposed amendments to its FERC Electric Tariff to implement its Market Redesign and Technology Upgrade.

Filed Date: 10/19/2007.

Accession Number: 20071023-0030.

Comment Date: 5 p.m. Eastern Time on Friday, November 9, 2007.

Docket Numbers: ER08-74-000.

Applicants: North American Energy Credit and Clearing.

Description: North American Energy Credit and Clearing—Finance ,LLC. submits its petition for acceptance of initial rate tariff, waivers and blanket authority.

Filed Date: 10/19/2007.

Accession Number: 20071023-0029.

Comment Date: 5 p.m. Eastern Time on Friday, November 9, 2007.

Docket Numbers: ER08-76-000.

Applicants: South Glen Falls Energy, LLC.

Description: South Glen Falls Energy, LLC. submits a notice of cancellation of their market based rate tariff, FERC Electric Tariff, Third Revised Volume 1.

Filed Date: 10/22/2007.

Accession Number: 20071023-0035.

Comment Date: 5 p.m. Eastern Time on Tuesday, November 13, 2007.

Take notice that the Commission received the following electric securities filings:

Docket Numbers: ES08-3-000.

Applicants: Kansas City Power & Light Company.

Description: Application of Kansas City Power & Light Company for Authorization under section 204(A) to Issue Short Term Debt.

Filed Date: 10/22/2007.

Accession Number: 20071022-5110.

Comment Date: 5 p.m. Eastern Time on Tuesday, November 13, 2007.

Take notice that the Commission received the following PURPA 210(m)(3) filings:

Docket Numbers: QM08-2-000.

Applicants: PECO Energy Company.

Description: Application of PECO Energy Company to terminate purchase obligation.

Filed Date: 10/19/2007.

Accession Number: 20071022-0151.

Comment Date: 5 p.m. Eastern Time on Friday, November 16, 2007.

Take notice that the Commission received the following electric reliability filings:

Docket Numbers: RR06-1-011.

Applicants: North American Electric Reliability Corporation.

Description: Compliance Filing of the North American Electric Reliability Corp in Response to September 20, 2007 Order.

Filed Date: 10/19/2007.

Accession Number: 20071019-5078.

Comment Date: 5 p.m. Eastern Time on Friday, November 9, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Acting Deputy Director.

[FR Doc. E7-21227 Filed 10-25-07; 8:45 am]

BILLING CODE 6717-01-P